FEDERAL RESERVE SYSTEM

Change in Bank Control Notices; Acquisition of Shares of Bank or Bank Holding Companies; Correction

This notice corrects a notice (FR Doc. E5-6679) published on pages 71852 and 71853 of the issue for Wednesday, November 30, 2005.

Under the Federal Reserve Bank of St. Louis heading, the entry for Carolyn Ferguson Pryor, Jackson, Mississippi, is revised to read as follows:

A. Federal Reserve Bank of St. Louis (Glenda Wilson, Community Affairs Officer) 411 Locust Street, St. Louis, Missouri 63166-2034:

1. The Ferguson Family Control Group, consisting of Carolyn Ferguson Pryor, Jackson, Mississippi; Nancy Ferguson Rasco, Hot Springs, Arkansas; Rebecca Ferguson Ehrlicher, Memphis, Tennessee; Carolyn F. Pryor Trust, De Witt, Arkansas; Nancy F. Rasco Trust, De Witt, Arkansas; and Rebecca F. Ehrlicher Trust, De Witt, Arkansas; to acquire additional voting shares of DBT Financial Corporation, De Witt, Arkansas, and thereby indirectly acquire additional voting shares of De Witt Bank and Trust Company, De Witt, Arkansas.

Comments on this application must be received by December 15, 2005.

Board of Governors of the Federal Reserve System,December 1, 2005.
Robert deV. Frierson,
Deputy Secretary of the Board.

[FR Doc. E5-6915 Filed 12-6-05; 8:45 am]

BILLING CODE 6210-01-S